FEDERAL COMMUNICATIONS COMMISSION

[AU Docket No. 12-25; DA 12-990]

Mobility Fund Phase I Auction Updated Data For Auction 901

AGENCY: Federal Communications Commission.

ACTION: Notice.

SUMMARY: In this document, the Wireless Telecommunications and Wireline Competition Bureaus (Bureaus) announce updated data files of census blocks eligible for the Mobility Fund Phase I support to be offered in Auction 901, which is to be held on September 27, 2012.

DATES: Short-form applications to participate in Auction 901 are due prior to 6:00 p.m. on July 11, 2012.

FOR FURTHER INFORMATION CONTACT: Wireless Telecommunications Bureau, Auctions and Spectrum Access Division: Lisa Stover at (717) 338-2868.

SUPPLEMENTARY INFORMATION: This is a summary of the Auction 901 Data Files Public Notice released on June 22, 2012. The Auction 901 Data Files Public Notice and its associated attachment as well as related Commission documents may be purchased from the Commission's duplicating contractor, Best Copy and Printing, Inc. (BCPI), 445 12th Street SW., Room CY-B402, Washington, DC 20554, telephone 202-488-5300, fax 202-488-5563, or you may contact BCPI at its Web site: http://www.BCPIWEB.com. When ordering documents from BCPI, please provide the appropriate FCC document number, for example, DA 12-990. The Auction 901 Data Files Public Notice and related documents also are available on the Internet at the Commission's Web site: http://wireless.fcc.gov/auctions/901/ or by using the search function for AU Docket No. 12-25 on the Commission's Electronic Comment Filing System (ECFS) Web page at http://www.fcc.gov/cgb/ecfs/.

1. The Auction 901 Data Files Public Notice announces the availability of certain files that have been updated to conform to decisions previously announced by the Wireless Telecommunications Bureau and Wireline Competition Bureau (Bureaus). In the Auction 901 Procedures Public Notice, 77 FR 32092, May 31, 2012, the Bureaus described how they identified census blocks eligible for the Mobility Fund Phase I support to be offered in Auction 901. With the Auction 901 Procedures Public Notice, the Bureaus released Attachment A, a summary of the final list of eligible census blocks, and they concurrently provided more detailed Attachment A files in electronic format only. Subsequent to the release of the Auction 901 Procedures Public Notice, the Bureaus provided updates to some of the Attachment A files in two public notices. The Bureaus have since found that they need to correct some of these files to accurately reflect the determinations made in the Auction 901 Procedures Public Notice. Accordingly, the Bureaus are releasing a new Attachment A to replace the one released with the Auction 901 Procedures Public Notice, and they are updating some of the corresponding Attachment A files.

2. The files for which the Bureaus now announce updates are available via the link for Attachment A Files at http://wireless.fcc.gov/auctions/901/. Specifically, the All Eligible Census Blocks file; the Biddable Items file; and the state spreadsheet files for Maryland, Oklahoma, and Nevada have been updated. Interested parties should use these files instead of previously-released versions.

3. Concurrent with the release of Auction 901 Procedures Public Notice, the Bureaus released an interactive map of the eligible census blocks. The map is a visual representation of data from the Attachment A files, which contain more information and generally more detail than is displayed on the map. The Bureaus subsequently released geographic information system (GIS) formats of the data shown in the interactive map. The interactive map and the related GIS data formats will be updated in the near future to match the corrections in the Attachment A files. Once updated, the link for the map and each of the GIS data links will be displayed with a notation of when they were updated.

Federal Communications Commission.
Gary D. Michaels,
Deputy Chief, Auctions and Spectrum Access Division, WTB.

[FR Doc. 2012-15989 Filed 6-28-12; 8:45 am]

BILLING CODE 6712-01-P